DEPARTMENT OF COMMERCE

International Trade Administration

[A-570-904]

Certain Activated Carbon from the People's Republic of China: Notice of Partial Rescission of Antidumping Duty Administrative Review

AGENCY: Import Administration, International Trade Administration, Department of Commerce.

DATES: Effective Date: August 23, 2010.

FOR FURTHER INFORMATION CONTACT: Catherine Bertrand, AD/CVD Operations, Office 9, Import Administration, International Trade Administration, U.S. Department of Commerce, 14th Street and Constitution Avenue, NW., Washington DC 20230; telephone: (202) 482-3207.

Background

On May 28, 2010, the Department of Commerce (“Department”) published in the Federal Register a notice of initiation of an administrative review of the antidumping duty order on certain activated carbon from the People's Republic of China (“PRC”) covering the period April 1, 2009—March 31, 2010. See Initiation of Antidumping and Countervailing Duty Administrative Reviews, 75 FR 29976-29980 (May 28, 2010) (“Initiation”).

On July 8, 2010, Calgon Carbon Corporation and Norit Americas Inc. (“Petitioners”) withdrew their request for an administrative review for the following companies: Anhui Handfull International Trading (Group) Co., Ltd.; Anyang Sino-Shon International Trading Co., Ltd.; China Nuclear Ningxia Activated Carbon Plant; Datong Forward Activated Carbon Co., Ltd.; Datong Guanghua Activated Carbon Co., Ltd.; Datong Hongtai Activated Carbon Co., Ltd.; Datong Huibao Active Carbon Co., Ltd.; Datong Huibao Activated Carbon Co., Ltd.; Datong Juqiang Activated Carbon Co., Ltd.; Datong Locomotive Coal & Chemicals Co., Ltd.; Datong Yunguang Chemicals Plant; Dongguan SYS Hitek Co., Ltd.; Fujian Yuanli Active Carbon Co., Ltd.; Hangzhou Nature Technology; Hebei Foreign Trade and Advertising Corporation; Huairen Jinbei Chemical Co., Ltd.; Jiangsu Taixing Yixin Activated Carbon Technology Co., Ltd.; Jilin Bright Future Chemicals Co., Ltd.; Jilin Province Bright Future Industry and Commerce Co., Ltd.; Keyun Shipping (Tianjin) Agency Co., Ltd.; Ningxia Guanghua Activated Carbon Co., Ltd.; ¹ Ningxia Guanghua Chemical Activated Carbon Co., Ltd.; Ningxia Mineral & Chemical Ltd.; Ningxia Pingluo County Yaofu Activated Carbon Plant; Ningxia Pingluo County Yaofu Activated Carbon Factory; Ningxia Pingluo Xuanzhong Activated Carbon Co., Ltd.; Ningxia Pingluo Yaofu Activated Carbon Factory; Nuclear Ningxia Activated Carbon Co., Ltd.; Pingluo Yu Yang Activated Carbon Co., Ltd.; Shanghai Light Industry and Textile Import & Export Co., Ltd.; Shanxi Carbon Industry Co., Ltd.; Shanxi Dapu International Trade Co., Ltd.; Shanxi Newtime Co., Ltd.; Shanxi Qixian Foreign Trade Corporation; Shanxi Xuanzhong Chemical Industry Co., Ltd.; Sinoacarbon International Trading Co., Ltd.; Tianjin Century Promote International Trade Co., Ltd.; Taiyuan Hengxinda Trade Co., Ltd.; Triple Eagle Container Line; Uniclear New-Material Co., Ltd; United Manufacturing International (Beijing) Ltd.; VitaPak (HK) Industrial Ltd.; Xi'an Shuntong International Trade & Industrials Co., Ltd.; Xingtai Coal Chemical Co., Ltd; Zhejiang Xingda Activated Carbon Co., Ltd.

¹ See Memo to the File from Catherine Bertrand regarding Telephone Call to Counsel for Petitioners (August 12, 2010).

Also on July 8, 2010, Petitioners withdrew their request for review of Jiangxi Huaiyushan Suntar Active Carbon Co., Ltd. However, the review for this company was rescinded previously in the Certain Activated Carbon from the People's Republic of China: Notice of Partial Rescission of Antidumping Duty Administrative Review published on August 11, 2010, in 75 FR 48644.² The Petitioners were the only party to request a review of these companies.

² See Certain Activated Carbon from the People's Republic of China: Notice of Partial Rescission of Antidumping Duty Administrative Review, 75 FR 48644 (August 11, 2010).

Partial Rescission

Pursuant to 19 CFR 351.213(d)(1), the Secretary will rescind an administrative review, in whole or in part, if a party who requested the review withdraws the request within 90 days of the date of publication of notice of initiation of the requested review. Petitioners' request was submitted within the 90-day period, and thus, is timely. Because Petitioners' withdrawal of requests for review is timely and because no other party requested a review of the aforementioned companies, in accordance with 19 CFR 351.213(d)(1), we are partially rescinding this review with respect to the above listed companies.

Assessment Rates

At this time, the Department cannot order liquidation for the above companies because they remain part of the PRC-wide entity and their respective entries may be under review in the ongoing administrative review. The Department intends to issue assessment instructions for the PRC-wide entity, which will cover any entries by the above companies, 15 days after publication of the final results of the ongoing administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: August 17, 2010.
Edward C. Yang,
Acting Deputy Assistant Secretary for Antidumping and Countervailing Duty Operations.

[FR Doc. 2010-20903 Filed 8-20-10; 8:45 am]

BILLING CODE 3510-DS-P